SECURITIES AND EXCHANGE COMMISSION

[File No. 500-1]

Admiralty Holding Co., American Consolidated Management Group, Inc., DnC Multimedia Corp., Dorsey Trailers, Inc. (n/k/a DT Liquidation, Inc.), and ElectraCapital, Inc. (a/k/a Electra Capital, Inc.); Order of Suspension of Trading

March 10, 2011.

It appears to the Securities and Exchange Commission that there is a lack of current and accurate information concerning the securities of Admiralty Holding Co. because it has not filed any periodic reports since the period ended September 30, 2006.

It appears to the Securities and Exchange Commission that there is a lack of current and accurate information concerning the securities of American Consolidated Management Group, Inc. because it has not filed any periodic reports since the period ended March 31, 2006.

It appears to the Securities and Exchange Commission that there is a lack of current and accurate information concerning the securities of DnC Multimedia Corp. because it has not filed any periodic reports since the period ended December 31, 2007.

It appears to the Securities and Exchange Commission that there is a lack of current and accurate information concerning the securities of Dorsey Trailers, Inc. (n/k/a DT Liquidation, Inc.) because it has not filed any periodic reports since the period ended July 1, 2000.

It appears to the Securities and Exchange Commission that there is a lack of current and accurate information concerning the securities of ElectraCapital, Inc. (a/k/a Electra Capital, Inc.) because it has not filed any periodic reports since the period ended September 30, 2003.

The Commission is of the opinion that the public interest and the protection of investors require a suspension of trading in the securities of the above-listed companies. Therefore, it is ordered, pursuant to Section 12(k) of the Securities Exchange Act of 1934, that trading in the securities of the above-listed companies is suspended for the period from 9:30 a.m. EST on March 10, 2011, through 11:59 p.m. EDT on March 23, 2011.

By the Commission.
Jill M. Peterson,
Assistant Secretary.

[FR Doc. 2011-5934 Filed 3-10-11; 11:15 am]

BILLING CODE 8011-01-P